DEPARTMENT OF DEFENSE

Department of the Army

Final Environmental Assessment (EA) and Finding of No Significant Impact (FNSI) for BRAC 95 Disposal and Reuse of East Fort Baker, California

AGENCY: Department of the Army, DoD.

ACTION: Notice of availability.

SUMMARY: In accordance with Public Law 101-510 (as amended), and the Defense Base Closure and Realignment Act of 1990, the Defense Base Closure and Realignment Commission recommended the closure of East Fort Baker, California.

The Final EA evaluates the environmental impacts of the disposal and subsequent reuse of the 91-acre installation. Enactment of the Golden Gate National Recreation Area Act (Public Law 92-589) requiring that, when the Department of Defense determined that it no longer had a need for East Fort Baker, the property would transfer to the jurisdiction of the Secretary of the Interior. Disposal of East Fort Baker to the Secretary of the Interior will allow the property to be reused in accordance with the National Park Service's Proposed Plan. Pursuant to the National Environmental Policy Act, the National Park Service prepared a final environmental impact statement (EIS) that examined and analyzed the environmental impacts of the Proposed Plan and its alternatives. This final EIS has been incorporated by reference into the Army's disposal and reuse EA. The only other alternative examined by the Army was the no action alternative. Under the no action alternative, the Army would not dispose of property, but would maintain it in a caretaker status for an indefinite period. Based on the environmental analysis documented in the EA, the Army has determined that the proposed disposal action would have no significant direct, indirect or cumulative impact on the natural or human environment.

DATES: Comments must be submitted on or before December 28, 2000.

ADDRESSES: A copy of the EA may be obtained by writing to Mr. Jerry Fuentes, Corps of Engineers, Sacramento District, Environmental Resources Branch, 1325 J Street, Sacramento, CA 95814.

FOR FURTHER INFORMATION CONTACT: Mr. Jerry Fuentes at (916) 557-7730.

SUPPLEMENTARY INFORMATION: A Notice of Intent (NOI) declaring the Army's intent to prepare an EA for the closure of East Fort Baker was published in the Federal Register on September 22, 1995 (60 FR 49264).

The Final EA and FNSI are available for review at the Marin County Free Library, Marin County Civic Center, San Rafael, CA 94903 and the Sausalito Public Library, 420 Litho, Sausalito, CA 94965.

Dated: November 20, 2000.
Raymond J. Fatz,
Deputy Assistant Secretary of the Army (Environment, Safety and Occupational Health), OASA (I&E).

[FR Doc. 00-30180 Filed 11-27-00; 8:45 am]

BILLING CODE 3710-08-M